DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Populations.

Time and Date: 8:30 a.m. to 5 p.m., November 8, 2002.

Place: The Public Ledger Building, 150 S. Independence Mall West, Conference Room 415, Philadelphia, PA 19106, Phone: 215-861-4667.

Status: Open.

Purpose: The Subcommittee on Populations, NCVHS, is holding a hearing to discuss issues relating to statistics for the determination of health disparities in racial and ethnic populations. The focus will be on State related issues in the collection and use of data on race and ethnicity. Invited panelists will address State and local collection of data on race and ethnicity, use of mixed race data, measurement of ethnic identity and perspecitves on variables beyond race and ethnicity needed to determined health disparities in racial and ethnic groups.

Notice: In the interest of security, the Department has instituted stringent procedures for entrance to the Public Ledger Building by non-government employees. Thus, persons without a government identification card will need to present a photo identification card to the guard for admittance to the meeting.

For Further Information Contact: Substantive program information as well as summaries of meetings and a roster of committee members may be obtained from Audrey L. Burwell, Senior Policy Analyst, Office of Minority Health, Department of Health and Human Services, Suite 1000, 5515 Security Lane, Rockville, MD, 20852, telephone: (301) 443-9923, e-mail: alburwell@osophs.dhhs.gov; or Marjorie S. Greenberg, Executive Secretary, NCVHS, National Center for Health Statistics, Centers for Disease Control and Prevention, Room 1100, Presidetial Building, 6525 Belcrest Road, Hyattsville, Maryland 20782, telephone: (301) 458-4245. Information also is available on the NCVHS home page of the HHS Web site: http://www.ncvhs.hhs.gov/ where an agenda for the meeting will be posted when available.

Dated: October 7, 2002.
James Scanlon,
Director, Division of Data Policy, Office of the Assistant Secretary for Planning and Evaluation.

[FR Doc. 02-26581 Filed 10-17-02; 8:45 am]

BILLING CODE 4151-05-M